DEPARTMENT OF AGRICULTURE

Forest Service

Notice of Resource Advisory Committee Meeting

AGENCY: Lassen Resource Advisory Committee, Susanville, California, USDA Forest Service.

ACTION: Notice of Meeting.

SUMMARY: Pursuant to the authorities in the Federal Advisory Committees Act (Pub. L. 92-463) and under the Secure Rural Schools and Community Self-Determination Act of 2000 (Pub. L. 106-393) the Lassen National Forest's Lassen County Resource Advisory Committee will meet Thursday July 13th and Friday July 14th in Susanville, California for a business meeting. The meetings are open to the public.

SUPPLEMENTARY INFORMATION: The business meeting on July 13th and 14th will begin at 9 a.m., at the Lassen National Forest Headquarters Office, Caribou Conference Room, 2550 Riverside Drive, Susanville, CA 96130. This meeting will review June meeting minutes; progress updates on the following projects will be provided: Archery Children's Fuel Reduction; Gooch Valley and Beaver Creek Range Improvements; Bizz Johnson Trail Stabilization; Swain Mountain Trailhead; Diamond Mountain and Willard Creek Road enhancement projects. The remainder of the meeting will be set aside to review and listen to proposed projects for the final round of funding through the “Secure Rural Schools and Self Determination Act of 2000,” commonly known as Payments to States. Time will also be set aside for public comments at the beginning of the meeting.

FOR FURTHER INFORMATION CONTACT: Robert Andrews, Designated Federal Official at (530) 257-4188; or Public Affairs Officer Heidi Perry at (530) 252-6604.

Laurie Tippin,
Forest Supervisor.

[FR Doc. 06-5616 Filed 6-22-06; 8:45 am]

BILLING CODE 3410-11-M